FEDERAL MARITIME COMMISSION

Notice of Meeting

Time and Date: 10 a.m.—February 11, 2003.

Place: 800 North Capitol Street, NW., First Floor Hearing Room, Washington, DC.

Status: A portion of the meeting will be open to the public and the remainder of the meeting will be closed.

Matters To Be Considered: The Portion Open to the public:

1. Docket No. 99-13—The Content of Ocean Common Carrier and Marine Terminal Operator Agreements Subject to the Shipping Act of 1984.

2. Proposed Revisions to the Information Form and Monitoring Report Regulations for Carrier Agreements Under 46 CFR part 535.

1. The Portion Closed to the public: Proposed Revisions to the Commission's Regulations Regarding the Filing of Agreements Minutes Under 46 CFR part 535.

Contact Person for More Information: Bryant L. VanBrakle, Secretary, (202) 523-5725.

Bryant L. VanBrakle,
Secretary.

[FR Doc. 03-3102 Filed 2-6-03; 8:45 am]

BILLING CODE 6730-01-M